DEPARTMENT OF THE INTERIOR

Bureau of Land Management

[LLES956000 L14200000.BJ0000 14X]

Eastern States: Filing of Plats of Survey

AGENCY: Bureau of Land Management, Interior.

ACTION: Notice.

SUMMARY: The Bureau of Land Management (BLM) will file the plats of survey of the lands described below in the BLM-Eastern States office in Springfield, Virginia, 30 calendar days from the date of publication in the Federal Register.

FOR FURTHER INFORMATION CONTACT: Bureau of Land Management-Eastern States, 7450 Boston Boulevard, Springfield, Virginia 22153. Attn: Cadastral Survey. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The surveys were requested by the Bureau of Indian Affairs.

The lands surveyed are:

Fourth Principal Meridian, Wisconsin

T. 48N., R. 3W.

The plat of survey represents the dependent resurvey of a portion of the south and west boundaries, a portion of the subdivisional lines, and the east and west center lines of Sections 15-17, 19-22, 30 and 31; the subdivision of Sections 15-22, 30, 31 and 35; and the corrective dependent resurvey of a portion of the subdivisional lines of Township 48 North, Range 3 West, in the State of Wisconsin, and was accepted September 26, 2013.

Louisiana Meridian, Louisiana

T. 5N., R. 1W.

The plat of survey represents the dependent resurvey of a portion of the subdivisional lines; and the survey of the subdivision of Section 5 of Township 5 North, Range 1 West, of the Louisiana Meridian, in the State of Louisiana, and was accepted September 17, 2013.

Louisiana Meridian, Louisiana

T. 5N., R. 1W.

The plat of survey represents the survey of a parcel of land held in trust for the Jena Band of Choctaw Indians within Lot 6, Pine Heights subdivision in Section 9 of Township 5 North, Range 1 West, of the Louisiana Meridian, in the State of Louisiana, and was accepted September 17, 2013.

We will place a copy of the plats we described in the open files. They will be available to the public as a matter of information.

If BLM receives a protest against the surveys, as shown on the plat, prior to the date of the official filing, we will stay the filing pending our consideration of the protest.

We will not officially file the plats until the day after we have accepted or dismissed all protests and they have become final, including decisions on appeals.

Dated: November 20, 2013.
Dominica Van Koten,
Chief Cadastral Surveyor.

[FR Doc. 2013-28292 Filed 11-25-13; 8:45 am]

BILLING CODE 4310-GJ-P